DEPARTMENT OF LABOR

Employment and Training Administration

[TA-W-50,321]

Baxter Healthcare Corporation, Mountain Home, AR; Notice of Termination of Investigation

Pursuant to section 221 of the Trade Act of 1974, as amended, an investigation was initiated on December 12, 2002 in response to a worker petition filed by the State of Arkansas Employment Security Department on behalf of workers at Baxter Healthcare Corporation, Mountain Home, Arkansas.

The petitioner has requested that the petition be withdrawn. Consequently, the investigation has been terminated.

Signed at Washington, DC this 31st day of December, 2002.
Linda G. Poole,
Certifying Officer, Division of Trade Adjustment Assistance.

[FR Doc. 03-419 Filed 1-8-03; 8:45 am]

BILLING CODE 4510-30-P